DEPARTMENT OF COMMERCE

International Trade Administration

[A-570-601]

Tapered Roller Bearings and Parts Thereof, Finished and Unfinished, From the People's Republic of China: Preliminary Rescission of Antidumping Duty New Shipper Review; 2014-2015

AGENCY: Enforcement and Compliance, International Trade Administration, Department of Commerce.

DATES: Effective date: December 22, 2015.

FOR FURTHER INFORMATION CONTACT: Elizabeth Eastwood, AD/CVD Operations, Office II, Enforcement and Compliance, International Trade Administration, U.S. Department of Commerce, 14th Street and Constitution Avenue NW., Washington, DC 20230; telephone: (202) 482-3874.

SUPPLEMENTARY INFORMATION:

Background

On June 23, 2015, we received a timely request from Zhejiang Changxing CTL Auto Parts Manufacturing Co., Ltd., (Changxing) that the Department conduct a new shipper review of the antidumping duty (AD) order on tapered roller bearings and parts thereof, finished and unfinished (TRBs) from the People's Republic of China (PRC).¹ On August 3, 2015, the Department of Commerce (the Department) found that the request for review with respect to Changxing met all of the statutory and regulatory requirements for initiating an AD new shipper review.²

¹ See Changxing's letter to the Department entitled, “Tapered Roller Bearings from the People's Republic of China—Request for New Shipper Review,” dated June 23, 2015.

² See Tapered Roller Bearings and Parts Thereof, Finished and Unfinished, From the People's Republic of China: Initiation of Antidumping Duty New Shipper Reviews, 80 FR 45944 (August 3, 2015).

On September 21, 2015, we requested additional information from Changxing regarding entries to the United States that may have occurred prior to the period of review (POR) and relevant documentation for those entries.³ However, Changxing did not respond to the Department's request. On October 16, 2015, Changxing withdrew its request for a new shipper review.⁴

³ See Memorandum to The File entitled, “Tapered Roller Bearings and Parts Thereof, Finished and Unfinished, From the People's Republic of China: New Shipper Review of Zhejiang Changxing CTL Auto Parts Manufacturing Co., Ltd.—Telephone Conversation with Representative,” dated September 21, 2015.

⁴ See Letter from Changxing Re: “Tapered Roller Bearings from the People's Republic of China: Withdrawal of Request for New Shipper Review,” dated October 16, 2015.

Scope of the Order

Imports covered by the order are shipments of tapered roller bearings and parts thereof, finished and unfinished, from the PRC; flange, take up cartridge, and hanger units incorporating tapered roller bearings; and tapered roller housings (except pillow blocks) incorporating tapered rollers, with or without spindles, whether or not for automotive use. These products are currently classifiable under Harmonized Tariff Schedule of the United States (HTSUS) item numbers 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. Although the HTSUS item numbers are provided for convenience and customs purposes, the written description of the scope of the order is dispositive.

Application of Adverse Facts Available and Preliminary Rescission of Review

Pursuant to 19 CFR 351.214(f)(1), the Department may rescind a new shipper review if the party that requested the review withdraws the request within 60 days of the date of publication of notice of initiation of the requested review. In this case, as noted above, Changxing submitted its withdrawal request on October 16, 2015, which is after the 60-day withdrawal deadline. Therefore, because the withdrawal request was untimely, we are not rescinding this review on this basis.

Nonetheless, information on the record indicates that Changxing may have had entries of subject merchandise prior to its declared entry in this new shipper review. Changxing failed to respond to the Department's September 21, 2015, request for additional information regarding these entries, and indeed affirmatively withdrew from this proceeding. Because we find that Changxing has withheld information requested of it within the meaning of section 776(a)(2)(A) of the Tariff Act of 1930, as amended (the Act), we are making a determination on the basis of the facts otherwise available. In selecting from among the facts available, we find that an adverse inference pursuant to section 776(b) of the Act is appropriate due to Changxing's failure to act to the best of its ability in responding to the Department's request. As adverse facts available, we determine that Changxing had additional entries of subject merchandise that were not reported to the Department at the time of Changxing's request for a new shipper review.

Based on the foregoing, we preliminarily find that Changxing does not meet the minimum requirements for a new shipper review under 19 CFR 351.214(b)(2)(iv)(C) in that Changxing's request did not contain documentation establishing the date of its first sale to an unaffiliated customer in the United States. Because we find that Changxing's request for a new shipper review did not satisfy the regulatory requirements for initiation of a new shipper review, we are preliminarily rescinding the new shipper review of the AD order on TRBs from the PRC with respect to Changxing.

Public Comment

Interested parties are invited to comment on this preliminary rescission and submit written arguments or case briefs within 30 days after the publication of this notice in the Federal Register, unless otherwise notified by the Department.⁵ Rebuttal briefs, limited to issues raised in the case briefs, may be filed not later than five days after the date for filing case briefs.⁶ Parties who submit case or rebuttal briefs are requested to submit with each argument: (1) A statement of the issue; (2) a brief summary of the argument; and (3) a table of authorities.⁷ Case and rebuttal briefs should be filed using Enforcement and Compliance's Antidumping and Countervailing Duty Centralized Electronic Service System (ACCESS), which is available to registered users at http://access.trade.gov, and in the Central Records Unit, Room B0824 of the main Department of Commerce building.⁸

⁵ See 19 CFR 351.309(c)(1)(ii).

⁶ See 19 CFR 351.309(d).

⁷ See 19 CFR 351.309(c)(2) and (d)(2).

⁸ See 19 CFR 351.303.

Any interested party may request a hearing within 30 days after the day of publication of this notice.⁹ Hearing requests should contain the following information: (1) The party's name, address, and telephone number; (2) the number of participants; and (3) a list of issues to be discussed.¹⁰ Issues raised in the hearing will be limited to those raised in case briefs. If a request for a hearing is made, parties will be notified of the date and time for the hearing to be held at the U.S. Department of Commerce, 14th Street and Constitution Avenue NW, Washington, DC 20230.¹¹

⁹ See 19 CFR 351.310(c).

¹⁰ See 19 CFR 351.310(c).

¹¹ See 19 CFR 351.310(d).

We intend to issue the final results of this new shipper review, including the results of our analysis of issues raised in any case briefs, within 90 days after the date on which this preliminary rescission is issued, unless the deadline for our final results is extended.¹²

¹² See section 751(a)(2)(B)(iv) of the Act; and 19 CFR 351.214(i).

Assessment Rates

As the Department intends to rescind this new shipper review, we are not making a determination as to whether Changxing qualifies for a separate rate. Therefore, if the Department proceeds to a final rescission, Changxing will remain part of the PRC entity and, accordingly, its entries covered by this new shipper review will be assessed at the PRC-wide rate.

Cash Deposit Requirements

Effective upon publication of the final rescission of the new shipper review of Changxing, the Department will instruct U.S. Customs and Border Protection to discontinue the option of posting a bond or security in lieu of a cash deposit for entries of subject merchandise from Changxing.¹³ Because we did not calculate a dumping margin for Changxing or grant Changxing a separate rate in this new shipper review, we preliminarily find that Changxing continues to be part of the PRC-wide entity. The cash deposit rate for the PRC-wide entity is 92.84 percent. These cash deposit requirements shall remain in effect until further notice.

¹³ See section 751(a)(2)(B)(iii) of the Act; 19 CFR 351.214(e).

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

This new shipper review and notice are in accordance with sections 751(a)(2)(B) and 777(i) of the Act and 19 CFR 351.214(f)(3).

Dated: December 15, 2015.
Paul Piquado,
Assistant Secretary for Enforcement and Compliance.

[FR Doc. 2015-32161 Filed 12-21-15; 8:45 am]

BILLING CODE 3510-DS-P